DEPARTMENT OF TRANSPORTATION

Federal Motor Carrier Safety Administration

[Docket No. FMCSA-2013-0442]

Qualification of Drivers; Exemption Applications; Epilepsy and Seizure Disorders; Correction

AGENCY: Federal Motor Carrier Safety Administration (FMCSA), Department of Transportation (DOT).

ACTION: Notice of correction; reopening of comment period.

SUMMARY: FMCSA corrects its August 7, 2024, notice requesting comments on its decision to renew exemptions for seven individuals from the requirement in the Federal Motor Carrier Safety Regulations (FMCSRs) that interstate commercial motor vehicle (CMV) drivers have “no established medical history or clinical diagnosis of epilepsy or any other condition which is likely to cause loss of consciousness or any loss of ability to control a CMV” to correctly list the docket number that one individual was included in. The exemptions enable these individuals who have had one or more seizures and are taking anti-seizure medication to continue to operate CMVs in interstate commerce. The Agency also reopens the public comment period for that notice.

DATES: The comment period for the notice published August 7, 2024, at 89 FR 64532, is reopened. Comments must be received on or before December 16, 2024.

FOR FURTHER INFORMATION CONTACT: Ms. Christine A. Hydock, Chief, Medical Programs Division, FMCSA, DOT, 1200 New Jersey Avenue SE, Room W64-224, Washington, DC 20590-0001, (202) 366-4001, fmcsamedical@dot.gov. Office hours are from 8:30 a.m. to 5 p.m. ET Monday through Friday, except Federal holidays. If you have questions regarding viewing materials in the docket, contact Dockets Operations, (202) 366-9826.

SUPPLEMENTARY INFORMATION: On August 7, 2024, FMCSA published a notice of renewal of exemptions (89 FR 64532), which FMCSA announced its decision to renew exemptions for seven individuals from the requirement in the Federal Motor Carrier Safety Regulations (FMCSRs) that interstate commercial motor vehicle (CMV) drivers have “no established medical history or clinical diagnosis of epilepsy or any other condition which is likely to cause loss of consciousness or any loss of ability to control a CMV.” The notice inadvertently published the incorrect docket number for the renewal applicant, Raymond Lobo (NJ). Through this notice, FMCSA corrects the August 7, 2024, notice of renewal of exemptions by correctly indicating the complete docket number.¹

¹ The published version of the original notice is included in the docket for this correction.

In FR Doc. 2024-17422, starting on page 64532 in the Federal Register of August 7, 2024, “FMCSA-2013-044” is corrected to read “FMCSA-2013-0442” wherever it appears in the document.

FMCSA corrects the notice and reopens the comment period to ensure that interested parties have sufficient time to review and comment on the renewal of exemptions.

Larry W. Minor,
Associate Administrator for Policy.

[FR Doc. 2024-26388 Filed 11-13-24; 8:45 am]

BILLING CODE 4910-EX-P